DEPARTMENT OF COMMERCE

Foreign-Trade Zones Board

[Order No. 1841]

Reorganization of Foreign-Trade Zone 148 Under Alternative Site Framework; Knoxville, TN

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the Industrial Development Board of Blount County and the Cities of Alcoa and Maryville, Tennessee, grantee of Foreign-Trade Zone 148, submitted an application to the Board (FTZ Docket 16-2012, filed 03/13/2012) for authority to reorganize under the ASF with a service area of Anderson, Blount, Campbell, Claiborne, Cocke, Cumberland, Grainger, Jefferson, Knox, Loudon, Monroe, Morgan, Roane, Scott, Sevier and Union Counties, Tennessee, within and adjacent to the Knoxville U.S. Customs and Border Protection port of entry, FTZ 148's existing Sites 3, 4 and 5 would be categorized as magnet sites, existing Sites 2, 6 and 7 would be categorized as usage-driven sites, and existing Site 1 would be removed from the zone project;

Whereas, notice inviting public comment was given in the Federal Register (77 FR 15995-15996, 03/19/2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 148 under the alternative site framework is approved, subject to the FTZ Act and the Board's regulations, including Section 400.13, to the Board's standard 2,000-acre activation limit for the overall general-purpose zone project, to a five-year ASF sunset provision for magnet sites that would terminate authority for Sites 4 and 5 if not activated by July 31, 2017, and to a three-year ASF sunset provision for usage-driven sites that would terminate authority for Sites 2, 6 and 7 if no foreign-status merchandise is admitted for a bona fide customs purpose by July 31, 2015.

Signed at Washington, DC, this 23rd day of July 2012.
Paul Piquado,
Assistant Secretary of Commerce for Import Administration, Alternate Chairman, Foreign-Trade Zones Board.
Andrew McGilvray,
Executive Secretary.

[FR Doc. 2012-18680 Filed 7-30-12; 8:45 am]

BILLING CODE P